DEPARTMENT OF AGRICULTURE

Forest Service

Notice of Meeting; Siskiyou Resource Advisory Committee Meeting at New Location

SUMMARY: The Siskiyou County Resource Advisory Committee (RAC) will hold its last two meetings in 2010 at a new location.

DATES: The meetings will be held on September 20 and October 18, 2010 and will begin at 4 p.m.

ADDRESSES: The meeting will be held at the Klamath National Forest Supervisor's Office, Conference Room, 1312 Fairlane Road, Yreka, CA.

FOR FURTHER INFORMATION CONTACT: Kerry Greene, Committee Coordinator, USDA, Klamath National Forest, Supervisor's Office, 1312 Fairlane Road, Yreka, CA 96097. (530) 841-4484; e-mail kggreene@fs.fed.us.

SUPPLEMENTARY INFORMATION: The agenda includes project updates and financial status, and presentation and review of new project proposals to be considered by the RAC. The meeting is open to the public. Opportunity for public comment will be provided and individuals will have the opportunity to address the Committee at that time.

Dated: August 18, 2010.
Patricia A. Grantham,
Designated Federal Officer.

[FR Doc. 2010-21140 Filed 8-24-10; 8:45 am]

BILLING CODE 3410-11-M